INTERNATIONAL TRADE COMMISSION

[Investigation Nos. 701-TA-509 and 731-TA-1244 (Final)]

1,1,1,2-Tetrafluoroethane From China

Determinations

On the basis of the record ¹ developed in the subject investigations, the United States International Trade Commission (“Commission”) determines, pursuant to sections 705(b) and 735(b) of the Tariff Act of 1930 (19 U.S.C. 1671d(b)) and (19 U.S.C. 1673d(b)) (“the Act”), that an industry in the United States is not materially injured or threatened with material injury, and the establishment of an industry in the United States is not materially retarded, by reason of imports of 1,1,1,2-Tetrafluoroethane from China, provided for in subheading 2903.39.20 of the Harmonized Tariff Schedule of the United States, that have been found by the Department of Commerce (“Commerce”) to be sold in the United States at less than fair value (“LTFV”) and subsidized by the government of China.²

¹ The record is defined in sec. 207.2(f) of the Commission's Rules of Practice and Procedure (19 CFR 207.2(f)).

² Commissioners Irving A. Williamson and Rhonda K. Schmidtlein dissenting.

Background

The Commission instituted these investigations effective October 22, 2013, following receipt of a petition filed with the Commission and Commerce by Mexichem Fluor Inc., St. Gabriel, LA. The final phase of the investigations was scheduled by the Commission following notification of preliminary determinations by Commerce that imports of 1,1,1,2-Tetrafluoroethane from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on June 24, 2014 (79 FR 35795). The hearing was held in Washington, DC on October 15, 2014, and all persons who requested the opportunity were permitted to appear in person or by counsel.

The Commission transmitted its determinations in these investigations to the Secretary of Commerce on December 3, 2014. The views of the Commission are contained in USITC Publication 4503 (December 2014), entitled 1,1,1,2-Tetrafluoroethane from China: Investigation Nos. 701-TA-509 and 731-TA-1244 (Final).

By order of the Commission.
Issued: December 4, 2014.
Lisa R. Barton,
Secretary to the Commission.

[FR Doc. 2014-28790 Filed 12-8-14; 8:45 am]

BILLING CODE 7020-02-P